DEPARTMENT OF THE TREASURY

Internal Revenue Service

Electronic Tax Administration Advisory Committee; Request for Nominations—Correction of Application Deadline Date

AGENCY: Internal Revenue Service, Department of Treasury.

ACTION: Corrected application deadline date.

SUMMARY: This document contains a correction to the deadline date for submitting Electronic Tax Administration Advisory Committee (ETAAC) membership applications. The correct deadline date is February 28, 2026. The prior notice, that was published in the Federal Register on December 31, 2025, stated the deadline date was January 31, 2026. More information, including the ETAAC application, is available at www.irs.gov/etaac.

FOR FURTHER INFORMATION CONTACT: Anna Millikan at (202) 317-6564 or send an email to publicliaison@irs.gov.

SUPPLEMENTARY INFORMATION:

Background

The ETAAC is a federal advisory committee operating pursuant to the Federal Advisory Committee Act. The Internal Revenue Service is requesting applications for ETAAC membership from individuals with experience in such areas as state tax administration, cybersecurity and information security, tax software development, tax preparation, payroll and tax financial product processing, systems management and improvement, implementation of customer service initiatives, public administration, and consumer advocacy.

Correction of Publication

Accordingly, FR Doc. 2025-24037, Electronic Tax Administration Advisory Committee; Request for Nominations, appearing on pages 61502-61503 in the Federal Register on Wednesday, December 31, 2025, is corrected to reflect the correct application deadline date to be “February 28, 2026” and not “January 31, 2026”.

Dated: January 30, 2026.
John A. Lipold,
Designated Federal Officer, Office of National Public Liaison, Internal Revenue Service.

[FR Doc. 2026-02223 Filed 2-3-26; 8:45 am]

BILLING CODE P